DEPARTMENT OF HOMELAND SECURITY

Coast Guard

33 CFR Part 117

[Docket No. USCG-2012-0678]

Drawbridge Operation Regulations; Mystic River, Mystic, CT

AGENCY: Coast Guard, DHS.

ACTION: Notice of temporary deviation from regulations.

SUMMARY: The Commander, First Coast Guard District, has issued a temporary deviation from the regulation governing the operation of the Route 1 Bridge across the Mystic River, mile 2.8, at Mystic, Connecticut. The deviation is necessary to facilitate bridge rehabilitation repairs at the bridge. Under this deviation the bridge may remain in the closed position November through April.

DATES: This deviation is effective from November 1, 2012 through April 15, 2013.

ADDRESSES: Documents mentioned in this preamble as being available in the docket are part of docket USCG-2012-0678 and are available online at www.regulations.gov, inserting USCG-2012-0678 in the “Keyword” and then clicking “Search”. They are also available for inspection or copying at the Docket Management Facility (M-30), U.S. Department of Transportation, West Building Ground Floor, Room W12-140, 1200 New Jersey Avenue SE., Washington, DC, 20590, between 9 a.m. and 5 p.m., Monday through Friday, except Federal holidays.

FOR FURTHER INFORMATION CONTACT: If you have questions on this rule, call or email Ms. Judy K. Leung-Yee, Project Officer, First Coast Guard District, telephone (212) 668-7165, judy.k.leung-yee@uscg.mil. If you have questions on viewing the docket, call Renee V. Wright, Program Manager, Docket Operations, telephone 202-366-9826.

SUPPLEMENTARY INFORMATION: The Route 1 Bridge across the Mystic River at mile 2.8, has a vertical clearance of 4 feet at mean high water and 7 feet at mean low water. The drawbridge operation regulations are listed at 33 CFR 117.211.

The normal waterway users are predominantly recreational craft of various sizes.

The Coast Guard issued two previous temporary deviations, (75 FR 78163) effective from December 2, 2010 through April 15, 2011 and (76 FR 70348) effective from December 1, 2011 through April 15, 2012, to facilitate this major bridge rehabilitation project that allowed the Route 1 Bridge to remain closed during the winter months when the bridge rarely opens. Both previous temporary deviations achieved successful results without any problems or complaints from the mariners that normally transit the Mystic River.

The owner of the bridge, Connecticut Department of Transportation, has requested a third temporary deviation from the regulations to allow the bridge to remain in the closed position to complete rehabilitation repairs at the bridge.

Under this temporary deviation the Route 1 Bridge may remain in the closed position from November 1, 2012 through April 15, 2013, to facilitate completion of bridge rehabilitation repairs. Vessels that can pass under the bridge in the closed position may do so at any time.

The bridge has received few requests to open during this time period during the past three years. The waterway users were advised of the requested bridge closure and no objections were received.

In accordance with 33 CFR 117.35(e), the bridge must return to its regular operating schedule immediately at the end of the designated time period. This deviation from the operating regulations is authorized under 33 CFR 117.35.

Dated: July 25, 2012.
Gary Kassof,
Bridge Program Manager, First Coast Guard District.

[FR Doc. 2012-19001 Filed 8-2-12; 8:45 am]

BILLING CODE 9110-04-P